DEPARTMENT OF HOMELAND SECURITY

Bureau of Customs and Border Protection

DEPARTMENT OF THE TREASURY

19 CFR Part 10

[USCBP-2008-0105]

RIN 1505-AC07

Cost or Value of Foreign Repairs, Alterations, or Processing

AGENCIES: Customs and Border Protection, Department of Homeland Security; Department of the Treasury.

ACTION: Withdrawal of notice of proposed rulemaking.

SUMMARY: This document withdraws a notice of proposed rulemaking, published in the Federal Register on March 13, 2009 (74 FR 10849), that proposed to amend the U.S. Customs and Border Protection (CBP) Regulations to exclude from the dutiable value of repairs, alterations, or processing performed abroad on articles exported from the United States and returned under subheading 9802.00.40, 9802.00.50, or 9802.00.60, Harmonized Tariff Schedule of the United States (HTSUS), the value of U.S.-origin parts used in the foreign repairs, alterations, or processing. The notice is being withdrawn to permit further consideration of the relevant issues involved in the proposed rulemaking.

DATES: The notice of proposed rulemaking is withdrawn on March 30, 2009.

FOR FURTHER INFORMATION CONTACT: Monika Brenner, Regulations and Rulings, Office of International Trade, 202-325-0038.

SUPPLEMENTARY INFORMATION:

Background

On March 13, 2009, CBP published in the Federal Register (74 FR 10849) a document that proposed to amend §§ 10.8(d) and 10.9(d) of the CBP regulations (19 CFR 10.8(d) and 10.9(d)) to exclude from the dutiable value of repairs, alterations, or processing performed abroad on articles exported and returned to the United States under subheading 9802.00.40, 9802.00.50, or 9802.00.60, HTSUS, the value of U.S.-origin parts used in the foreign repairs, alterations, or processing.

Withdrawal of Notice of Proposed Rulemaking

CBP is withdrawing the notice of proposed rulemaking published in the Federal Register on March 13, 2009, so that relevant issues involved in the proposed rulemaking may be further considered.

Jayson P. Ahern,
Acting Commissioner, Customs and Border Protection.
Timothy E. Skud,
Deputy Assistant Secretary of the Treasury.

[FR Doc. E9-7154 Filed 3-27-09; 8:45 am]

BILLING CODE 9111-14-P